DEPARTMENT OF HEALTH AND HUMAN SERVICES

Substance Abuse and Mental Health Services Administration

Office for Women's Services; Notice of Meeting

Pursuant to Public Law 92-463, notice is hereby given of a Substance Abuse and Mental Health Services Administration's (SAMHSA) Advisory Committee for Women's Services teleconference meeting to be held in August 2006.

The teleconference meeting will be open and include discussions on SAMHSA's women's activities and programs for fiscal year 2006 as they relate to the Agency's priority matrix. The meeting will also include updates on SAMHSA's budget and reauthorization.

The public is invited to attend the meeting in person or listen to the discussions via telephone. Due to limited space, seating will be on a registration-only basis. To register, contact the Committee Executive Secretary, Ms. Carol Watkins (see contact information below), to obtain the teleconference call-in number and access code. Please communicate with Ms. Watkins to make arrangements to comment or to request special accommodations for persons with disabilities.

Substantive program information and a roster of Committee members may be obtained after the meeting by contacting Ms. Carol Watkins (see contact information below) or by accessing the SAMHSA Council Web site (www.samhsa.gov). The transcript for the session will also be available on the SAMHSA Council Web site within 3 weeks after the meeting.

Committee Name: Substance Abuse and Mental Health Services Administration, Advisory Committee for Women's Services.

Date/Time: Open: Thursday, August 3, 2006, 12 noon-2 p.m.

Place: 1 Choke Cherry Road, Conference Room 8-1082, Rockville, MD 20857.

Contact: Carol Watkins, Executive Secretary, Advisory Committee for Women's Services, 1 Choke Cherry Road, Room 8-1002, Rockville, MD 20857, Telephone: (240) 276-2254, Fax: (240) 276-1024, e-mail: carol.watkin2@samhsa.hhs.gov.

Dated: July 13, 2006.
Toian Vaughn,
Committee Management Officer, Substance Abuse and Mental Health Services Administration.

[FR Doc. E6-11534 Filed 7-19-06; 8:45 am]

BILLING CODE 4162-20-P